NATIONAL AERONAUTICS AND SPACE ADMINISTRATION

48 CFR Part 1852

NASA Federal Acquisition Regulation Supplement

AGENCY: National Aeronautics and Space Administration.

ACTION: Technical amendment.

SUMMARY: NASA is making a technical amendment to the NASA Federal Acquisition Regulation Supplement (NFS) to provide a needed editorial change.

DATES: Effective: March 18, 2016.

FOR FURTHER INFORMATION CONTACT: Manuel Quinones, NASA, Office of Procurement, Contract and Grant Policy Division, via email at manuel.quinones@nasa.gov, or telephone (202) 358-2143.

SUPPLEMENTARY INFORMATION: This final rule amends the NFS to correct 1852.245-70 section heading.

List of Subjects in 48 CFR Part 1852

Government procurement.

Manuel Quinones,
NASA FAR Supplement Manager.

Therefore, 48 CFR part 1852 is amended as follows:

PART 1852—SOLICITATION PROVISIONS AND CONTRACT CLAUSES

1. The authority citation for 48 CFR part 1852 continues to read as follows:

Authority: 51 U.S.C. 20113(a) and 48 CFR chapter 1.

1852.245-70 [Amended]

2. Amend section 1852.245-70 in the section heading by removing the word “equipment” and adding “property” in its place.

[FR Doc. 2016-06114 Filed 3-17-16; 8:45 am]

BILLING CODE 7510-13-P